DEPARTMENT OF JUSTICE

Bureau of Justice Assistance

[OJP(BJA)-1284]

Program Announcement for Financial Crime-Free Communities Support (C-FIC) Anti-Money Laundering Grant Program

AGENCY: Office of Justice Programs, Bureau of Justice Assistance, Justice.

ACTION: Notice of solicitation.

SUMMARY: The U.S. Department of the Treasury and the U.S. Department of Justice are requesting applications for the Financial Crime-Free Communities Support (C-FIC) Anti-Money Laundering Grant Program.

DATES: Applications must be received by 5 p.m. ET on Monday, July 24, 2000.

ADDRESSES: Interested applicants must obtain an application kit from BJA's Web site at www.ojp.usdoj.gov/BJA/html/new1.htm or at www.ncjrs.org/fedgrant.htm#mlgrant. The application kit is also available from the Bureau of Justice Assistance Clearinghouse at 1-800-688-4252 or the DOJ Response Center at 1-800-421-6770. (See “Format” and “Delivery Instructions” later in this announcement for instructions on required standards and the address to which applications must be sent.)

FOR FURTHER INFORMATION CONTACT: Charles M. (Bud) Hollis, Senior Program Advisor, Bureau of Justice Assistance, 202-616-3218. [This is not a toll-free number.]

SUPPLEMENTARY INFORMATION:

Purpose

The purpose of this program is to provide state/local grant assistance to detect, prevent, and suppress money laundering and related financial crimes.

Background

The Department of the Treasury (Treasury) and the U.S. Department of Justice (Justice) oversee the majority of the Federal Government's anti-money laundering enforcement and regulatory efforts. Together, Treasury and Justice produce the annual National Money Laundering Strategy. To strengthen Treasury's partnerships with State and local governments in the fight against money laundering, Congress established the Financial Crime-Free Communities Support (C-FIC) Anti-Money Laundering Grant Program.

The Bureau of Justice Assistance (BJA), a component of the Office of Justice Programs (OJP) within Justice, supports innovative programs that strengthen the Nation's criminal justice system. BJA's primary mission is to provide leadership and a wide range of assistance to local criminal justice agencies to make America's communities safer. To accomplish this mission, BJA provides funding, training, technical assistance, and information to State and community criminal justice programs, emphasizing the coordination of Federal, State, and local efforts.

Treasury and Justice (BJA and OJP) will jointly implement the C-FIC Anti-Money Laundering Grant Program.

Authority

In the Money Laundering and Financial Crimes Strategy Act of 1998, Pub. L. 105-310 (Oct. 30, 1998), Congress directed Treasury to establish a program to provide funds to State and local law enforcement agencies to detect, prevent, and suppress money laundering and related financial crimes whether related to narcotics or other underlying offenses. State and local enforcement officials, including regulatory officials, and State and local prosecutors are aptly suited to identify potential money laundering activity and to adjust enforcement and prosecution efforts to local conditions.

Treasury, OJP, and BJA entered into a Memorandum of Understanding (MOU) to govern the administration of the C-FIC Program. C-FIC grants are to be used as seed money for State and local programs that seek to address money laundering systems within their jurisdictions. C-FIC grants will help State and local communities to marshal information and expertise to build innovative approaches to money laundering enforcement and prosecution. C-FIC can also provide State and local recipients with training and technical assistance to combat these crimes.

Through this competitive solicitation for applications, Treasury and Justice encourage State and local law enforcement agencies and prosecutor's offices to identify emerging or chronic money laundering issues within their jurisdictions and propose innovative strategies for addressing those issues.

Grant Applications

Applications must adhere to the administrative requirements outlined in this document and follow the format prescribed in the Selection Criteria. Applications not adhering to the administrative requirements or the prescribed format will not be considered. Submissions will be reviewed by a panel of expert practitioners (peer review), who will make award recommendations to BJA; BJA in turn will review and forward recommendations to Treasury. Treasury will then select the applications to be awarded. BJA will award the C-FIC grants and monitor the individual projects.

Eligibility Requirements

Applicants are limited by statute to State and local law enforcement agencies or prosecutor's offices. State attorneys general, district attorneys, and law enforcement agencies may apply. Partnerships and interagency collaborations are encouraged; however, a State or local law enforcement agency or State or local prosecutor must be the applicant.

Selection Criteria

Applications must propose strategies to develop or enhance State and local programs that seek to address money laundering systems within their jurisdictions. The following criteria will be considered in the selection of the initial C-FIC grant awardees during FY 2000. Each submission must answer the following questions in the order presented below. List each question by number, followed by your answer. Papers not following this format will be removed from the review process.

1. What specific money laundering-related problem(s) in your jurisdiction does your proposal address? (20 points)

Describe and/or demonstrate that the jurisdiction is focusing on a significant money laundering problem or risk, in a manner consistent with the National Money Laundering Strategy. Each application is required to include a preliminary threat assessment that identifies the most significant money laundering risks to be addressed using C-FIC grant funds. The use of FinCEN's Gateway Program as a vehicle for two-way information exchange is strongly encouraged.

2. Specifically, how will the award of C-FIC grant funds be used to accomplish your proposal's objectives? (25 points)

Provide an overview of your initiative. Make certain that clear and strong links exist between what you are proposing and how it will address the problem(s) you described in Question 1. This criterion is seeking innovative approaches. Are you proposing a method to understand, investigate, disrupt, and prosecute those involved in money laundering systems?

Note: The grant funds should not be used to fund investigative efforts focused primarily on the predicate crimes that generate launderable proceeds.

3. How will you regularly measure outcomes for your program throughout its operation? (10 points)

Each applicant should submit an analysis of how it will target the problem that it seeks to address and how it will measure its success. The application must contain at least three (3) quantitative performance measures and discuss how the applicant (and program auditors) can assess those measures. Effectiveness need not be measured in terms of immediate arrests or cash seizures, although such statistics may be relevant. The applicant must also provide assurances that an entity conducting an evaluation of the applicant's performance under the grant, or from which the applicant receives information, has experience in gathering data related to money laundering and related financial crimes (31 U.S.C. 5352(a)(2)(C)).

Note: Each selected applicant will be required to assess the level of cooperation between it and the Federal, State, and local law enforcement and prosecutorial agencies and regulatory agencies involved in fighting money laundering and related financial crimes.

4. How will agencies collaborate in the project? Include signed copies of all interagency agreements and memoranda of understanding (MOUs). Include a description of proposed or existing partnerships and how State and local prosecutors, law enforcement agencies, and relevant regulatory officials will be incorporated. Also describe how information from appropriate academic or research disciplines will be integrated into your proposal. (25 points)

List your partners, what role they play in your strategy, and whether this is a new or existing collaboration.

Note: Applicants who propose coordinating activities with any relevant High Risk Money Laundering and Financial Crime Areas (HIFCAs) will be considered favorably for a C-FIC grant award. The National Money Laundering Strategy for 2000 designated three geographic HIFCAs—New York/Northern New Jersey, Los Angles, and San Juan'and one money laundering system for the smuggling of bulk cash across the Texas and Arizona borders. Collaboration is strongly encouraged in the following manner: (a) Coordination with the action team of a designated HIFCA site, including a statement of endorsement by the head(s) of the HIFCA Action Team, and (b) participation with appropriate regulatory agencies.

5. What is the projected budget for the project? Use the appropriate worksheet included in the BJA Application Kit. (20 points)

The budget must describe not only the costs of the program, but the cost-benefits to the jurisdiction.

Note: The applicants should describe how the use of the C-FIC grant funds can result in progress being made against money laundering activity and describe how the grant will impact the money laundering target site after the grant period has concluded.

Format

Applicants must submit 10 copies of their proposal. To be considered for funding, proposals must include the following:

• All forms found in the BJA C-FIC Application Kit (available at www.ojp.usdoj.gov/BJA/html/new1.htm or at www.ncjrs.org/fedgrant.htm#mlgrant, or by calling the Bureau of Justice Assistance Clearinghouse at 1-800-688-4252 or the DOJ Response Center at 1-800-421-6770).

• A detailed narrative describing the proposed project. The narrative must address each of the Selection Criteria described below in the sequence shown. The narrative portion must not exceed 30 pages.

• A budget that reflects the estimated cost of the activities described in the proposal.

• A copy of your State's money laundering statute and any other relevant State or local applicable authorization to investigate and/or prosecute money laundering and related financial crimes. Applicants should include the basis, if any, for their authority to seize and/or forfeit assets.

• A resume of the proposed project director highlighting information that clearly indicates his or her experience in money laundering enforcement and/or prosecution.

Note: Federal law requires that, to the extent that monies are received by the grantee via asset forfeiture as a result of efforts funded by the grant, a C-FIC grant recipient must agree to return C-FIC monies awarded, up to the amount of the award, whether or not the forfeiture occurs during the period of the grant (31 U.S.C. 5352(c)(1)).

The proposal must be submitted on 8½-by 11-inch paper in standard 12-point font. The narrative portions of the proposal must be double-spaced.

Award Period

Up to 10 awards will be made for up to 18 months.

Award Amount

For FY 2000, applicants may request funding of up to $300,000, which is expected to be the maximum Federal contribution available for each award. Recipients of FY 2000 C-FIC grants will be eligible to apply for future C-FIC grants at the appropriate time.

Catalog of Federal Domestic Assistance (CFDA) Number

For this program, the CFDA number, which is required on Standard Form 424, Application for Federal Assistance, is 16.580. This form is included in the BJA C-FIC Application Kit, which can be obtained by accessing the BJA's Web site at www.ojp.usdoj.gov/BJA/html/new1.htm or at www.ncjrs.org/fedgrant.htm#mlgrant. The application kit is also available by calling the Bureau of Justice Assistance Clearinghouse at 1-800-688-4252 or the DOJ Response Center at 1-800-421-6770.

Delivery Instructions

Ten copies of the application must be mailed or delivered to: Bureau of Justice Assistance, Attention: BJA Control Desk, 5640 Nicholson Lane, Suite 300, Rockville, Maryland 20852.

Due Date

The proposal must be RECEIVED at the address above no later than 5 p.m. eastern time, July 24, 2000. Proposals delivered after the deadline will not be considered. BJA will not grant extensions of the deadline or accept faxed submissions.

Contact

For further information, contact Charles M. (Bud) Hollis, Senior Program Advisor, Bureau of Justice Assistance, 202-616-3218, or send an e-mail inquiry to BUD@ojp.usdoj.gov.

Suggested References

The National Money Laundering Strategy for 2000, (March 2000) (U.S. Department of the Treasury, U.S. Department of Justice, available at www.treas.gov/press/releases/docs/ml2000.pdf.

The National Money Laundering Strategy for 1999, (September 1999) (U.S. Department of the Treasury, U.S. Department of Justice), available at www.treas.gov/press/releases/99report.htm.

Dated: June 19, 2000.
Nancy E. Gist,
Director, Bureau of Justice Assistance.

[FR Doc. 00-15858 Filed 6-22-00; 8:45 am]

BILLING CODE 4410-18-P